DEPARTMENT OF THE TREASURY

Customs Service

19 CFR Parts 132 and 163

[T.D. 01-35]

RIN 1515-AC83

Licenses for Certain Worsted Wool Fabrics Subject to Tariff-Rate Quota

AGENCY: U.S. Customs Service, Department of the Treasury.

ACTION: Interim rule; correction.

SUMMARY: This document contains a correction to the interim regulations that were published in the Federal Register on May 1, 2001, concerning the implementation of a tariff-rate quota for certain worsted wool fabric. The interim regulations amended the Customs Regulations to set forth the form and manner by which an importer establishes that a valid license, issued under regulations of the U.S. Department of Commerce, is in effect for worsted wool fabric that is subject to the tariff-rate quota. The importer must be in possession of the license, or if the importer is not the licensee, the importer must possess a written authorization from the licensee, in order to be able to claim the in-quota rate of duty on the worsted wool fabric.

DATES: Interim rule effective on May 1, 2001. The interim rule is applicable to products that are entered, or withdrawn from warehouse, for consumption on or after January 1, 2001. Comments must be received on or before July 2, 2001.

ADDRESSES: Written comments may be addressed to and inspected at the Regulations Branch, U.S. Customs Service, 1300 Pennsylvania Avenue, NW., 3rd Floor, Washington, DC 20229.

FOR FURTHER INFORMATION CONTACT: Tom Fitzpatrick, Office of Field Operations, (202-927-5385).

SUPPLEMENTARY INFORMATION:

Background

A document published in the Federal Register (66 FR 21664) on May 1, 2001, as T.D. 01-35, amended the Customs Regulations on an interim basis concerning the implementation of a tariff-rate quota for certain worsted wool fabric. Specifically, the interim regulations amended the Customs Regulations by adding a new § 132.18 that set forth the form and manner by which an importer establishes that a valid license, issued under regulations of the U.S. Department of Commerce (“Commerce”), is in effect for worsted wool fabric that is the subject of the tariff-rate quota. The importer must be in possession of the license or, if not the licensee, the importer must possess a written authorization from the licensee, in order to be able to claim the in-quota rate of duty on the worsted wool fabric.

The interim rule stated that it would be applicable to worsted wool products that were entered or withdrawn from warehouse for consumption on or after May 1, 2001.

However, under section 501 of the Trade and Development Act of 2000(Pub. L. 106-200, 114 Stat. 251; May 18, 2000), the Harmonized Tariff Schedule of the United States (HTSUS) was amended to establish a tariff-rate quota covering designated worsted wool fabrics that were entered or withdrawn from warehouse for consumption, on or after January 1, 2001.

In this regard, an import license issued by Commerce that would entitle an importer to claim the in-quota rate of duty on worsted wool fabric is valid for the entire calendar year for which the license is issued (see 19 CFR 132.18(c)(2) at 66 FR 21667). Licenses issued by Commerce for the year 2001 are therefore intended to cover worsted wool fabrics subject to the tariff-rate quota that are entered or withdrawn from warehouse for consumption on or after January 1, 2001.

Consequently, the interim rule is applicable to worsted wool fabrics covered under the tariff-rate quota that are entered or withdrawn from warehouse for consumption on or after January 1, 2001, as indicated above under the DATES caption, and as corrected below.

Need for Correction

For the reasons noted, the interim rule, as published, requires clarification.

Correction of Publication

The publication on May 1, 2001 of the interim rule (T.D. 01-35), which was the subject of FR Doc. 01-10717, is corrected as follows:

On page 21664, in the third column, under the DATES caption, the second sentence is corrected to read: “The interim rule is applicable to products that are entered, or withdrawn from warehouse, for consumption, on or after January 1, 2001.”

Dated: May 11, 2001.
Stuart P. Seidel,
Assistant Commissioner, Office of Regulations and Rulings.

[FR Doc. 01-12391 Filed 5-16-01; 8:45 am]

BILLING CODE 4820-02-P